DEPARTMENT OF COMMERCE

National Oceanic and Atmospheric Administration

[Docket No 000202023-2049-03 I.D 041502E]

Announcement of Funding Opportunity to Submit Proposals for the Coastal Ecosystem Research Project in the Northern Gulf of Mexico

AGENCY: Center for Sponsored Coastal Ocean Research/Coastal Ocean Program (CSCOR/COP), National Ocean Service (NOS), National Oceanic and Atmospheric Administration (NOAA), Department of Commerce.

ACTION: Notice of funding availability for financial assistance for project grants and cooperative agreements.

SUMMARY: The purpose of this notice is to advise the public that CSCOR/COP is soliciting proposals to support 1 to 3 year studies of coastal ecosystem research related to hypoxia over the Louisiana continental shelf in the northern Gulf of Mexico. Funding is contingent upon the availability of Federal appropriations. It is anticipated that projects funded under this announcement will have a May 1, 2003 start date.

DATES: The deadline for receipt of proposals at the CSCOR/COP office is 3 p.m., local time September 17,2002.

(Note that late-arriving applications provided to a delivery service on or before September 16,2002 with delivery guaranteed before 3 p.m., local time on September 17,2002, will be accepted for review if the applicant can document that the application was provided to the delivery service with delivery to the address listed below guaranteed prior to the specified closing date and time, and, in any event, the proposals are received in the CSCOR/COP office by 3 p.m., local time, no later than 2 business days following the closing date.)

ADDRESSES: Submit the original and 15 copies of your proposal to Center for Sponsored Coastal Ocean Research/Coastal Ocean Program (N/SCI2), SSMC#4, 8th Floor, Station 8243, 1305 East-West Highway, Silver Spring, MD 20910, attn. N-GOMEX 2002.

NOAA and Standard Form Applications with instructions are accessible on the following CSCOR/COP Internet Site: http://www.cop.noaa.gov under the COP Grants Information Section, Part D, Application Forms for Initial Proposal Submission.

Forms may be viewed and, in most cases, filled in by computer. All forms must be printed, completed, and mailed to CSCOR/COP with original signatures. If you are unable to access this information, you may call CSCOR/COP at 301-713-3338 to leave a mailing request.

FOR FURTHER INFORMATION CONTACT: Technical Information. Dr. Kenric Osgood, N-GOMEX 2002 Program Manager, CSCOR/COP, 301-713-3338/ext 163, Internet: Kenric.Osgood@noaa.gov.

Business Management Information. Leslie McDonald, CSCOR/COP Grants Administrator, 301-713-3338/ext 155, Internet: Leslie.McDonald@noaa.gov

SUPPLEMENTARY INFORMATION:

Electronic Access

The following web sites furnish results of studies concerning the periodic hypoxia associated with the northern Gulf of Mexico: http://www.cop.noaa.gov/pubs/das/das14.html, for results from the Nutrient Enhanced Coastal Ocean Productivity (NECOP) study, and; http://www.nos.noaa.gov/Products/pubs_hypox.html for Gulf of Mexico hypoxia reports produced by the Committee on Environment and Natural Resources (CENR). Hard copies of these reports can be obtained from the CSCOR/COP office. The Action Plan for reducing, mitigating, and controlling hypoxia in the northern Gulf of Mexico that resulted from the CENR reports is available at: http://www.epa.gov/msbasin/planintro.htm

A general description of ongoing work in the northern Gulf of Mexico funded by the CSCOR/COP is provided at: http://www.cop.noaa.gov/Fact_Sheets/NGOMEX.htm A listing of the individual ongoing projects funded by the CSCOR/COP is provided at http://www.cop.noaa.gov/projects/GoMex/abstract-links.htm

University-National Oceanographic Laboratory System (UNOLS) Ship Time Request Form is available in electronic format at: http://www.gso.uri.edu/unols/ship/shiptime.html. UNOLS' vessel requirements are identified later in this document under Part I: Schedule and Proposal Submission, (7) Budget of this document.

Background

Program Description

For complete program description and other requirements criteria for the Center for Sponsored Coastal Ocean Research/Coastal Ocean Program, see the COP General Grant Administration Terms and Conditions annual notification in the Federal Register (66 FR 63019, December 4, 2001) and at the CSCOR/COP home page.

Coastal regions dominated by large rivers are disproportionately important to the biological production of the world's oceans primarily because these rivers carry large amounts of “new” nitrogen. The Northern Gulf of Mexico coastal ecosystem, which is influenced by the Mississippi River, supports high primary and secondary production and is an important river-dominated ecosystem. Approximately 20 percent of the U.S. commercial fishery landings, by dollar value, are from the northern Gulf. Major recreational fisheries also exist in this region.

There is a strong relationship between riverine inputs (especially nutrients) and primary production, followed in turn by zooplankton production and fish production in a classic nutrient-phytoplankton-zooplankton-fish (NPZF) food web. Because anthropogenic nitrogen loadings from the Mississippi River to the Gulf of Mexico have increased dramatically during the past several decades, many changes in the ecosystem of the northern Gulf have occurred, including (1) an initial increase in overall biological production, (2) the annual development of an extensive zone of bottom water hypoxia during the summer stratified period; and (3) an apparent shift from a balanced pelagic/demersal fish community to one significantly more dominated by pelagic fisheries.

Several past and present programs have studied the seasonal hypoxia associated with the northern Gulf of Mexico. Notably, from 1990 to 1997, the CSCOR/COP supported a study on Nutrient Enhanced Coastal Ocean Productivity (NECOP), and the Committee on Environment and Natural Resources (CENR) recently completed an integrated assessment of Gulf of Mexico hypoxia. Results and reports of these studies can be found on the web sites or obtained from CSCOR/COP as listed under “Electronic Access” of this document.

This solicitation for proposals will augment the existing program which was started in fiscal year 2000 and expanded in 2001, to examine the inter-relationships driving the Mississippi River-dominated Gulf of Mexico ecosystem. Abstracts of ongoing studies funded by CSCOR/COP in the northern Gulf of Mexico are available on the CSCOR/COP internet site that is provided in this document under “Electronic Access” of this document. All ongoing studies are scheduled to end by September 2003. The planned suite of studies will enable improved predictions about future effects of nutrient loading, eutrophication, hypoxia, and climate change on the northern Gulf of Mexico ecosystem.

The underlying goal of the entire program is to develop a predictive capability for the physical, chemical, and biological components of the Louisiana continental shelf ecosystem. In particular, it is desirable to obtain the ability to input different possible physical forcing and nutrient loading scenarios into a predictive model for the region in order to predict the effects on the oxygen concentrations and the biological system, including the effects on economically and ecologically important species. CSCOR/COP's intent is to provide timely and high-quality scientific results that can be used in an adaptive management program to restore and protect the Louisiana continental shelf ecosystem. The results of the funded research proposals should be useful to resource managers by helping them make informed decisions and assess alternative management strategies. This solicitation for proposals is one more step in the development of this predictive capability.

Research Priorities

This announcement seeks proposals to conduct research focused on understanding the causes and effects of the hypoxic zone over the Louisiana continental shelf and the prediction of its future extent and impacts. At this time, top priorities for the CSCOR/COP research program include (1) modeling studies for the region of the northern Gulf of Mexico affected by seasonal hypoxia centered over the Louisiana continental shelf, and (2) observational studies necessary to support the modeling studies.

Modeling studies are requested that extend beyond prior modeling efforts for the region of the northern Gulf of Mexico affected by seasonal hypoxia. This could include a natural evolution from empirically based statistical models, to process-oriented modeling studies, to a predictive modeling capability. Models of particular interest include the following: Models of oceanographic and climate influences on water column stability and nutrient flux; the impacts of the combination of these factors on productivity, trophic response and hypoxic zone dynamics; and the ultimate impacts to, and responses of, commercially and recreationally important fisheries. Individual studies may model one or more of these portions of the desired whole, but the models must be designed so that they can be combined with other components to form an efficient, integrative whole.

Observational studies are requested in support of the modeling studies. Physical, chemical, and biological observational studies are needed to provide (1) data for the boundary conditions of the models, (2) the process rate information needed by the models, and (3) validation data for the models. It is expected that the data/results acquired through the observational studies will be made available for assimilation into models being developed for the region and would thereby play an important role in their future development. Observational studies could include shipboard surveys, mooring observations, drifters, analysis of regional satellite data and in situ or laboratory rate measurements/experiments.

Part I: Schedule and Proposal Submission

This document requests full proposals only. The provisions for proposal preparation provided here are mandatory. Proposals received after the published deadline or proposals that deviate from the prescribed format will be returned to the sender without further consideration. Information regarding this announcement, additional background information, and required Federal forms are available on the CSCOR/COP home page.

Full Proposals

Applications submitted in response to this announcement require an original proposal and 15 proposal copies at time of submission. This includes color or high-resolution graphics, unusually sized materials, or otherwise unusual materials submitted as part of the proposal. For color graphics, submit either color originals or color copies. The stated requirements for the number of proposal copies provide for a timely review process. Facsimile transmissions and electronic mail submissions will not be accepted.

Required Elements

All recipients must follow the instructions in the preparation of the CSCOR/COP application forms included under Part II: Further Supplementary Information, (10) Application forms and kit of this document. Each proposal must also include the following ten elements or will be returned to sender without further consideration:

(1) Standard Form 424. At time of proposal submission, all applicants anticipating direct funding shall submit the Standard Form, SF-424, “Application for Federal Assistance,” to indicate the total amount of funding proposed for the whole project period. This form is to be the cover page for the original proposal and all requested copies. Multi-institutional proposals must include signed SF-424 forms from all institutions requesting funding.

(2) Signed Summary title page. The title page should be signed by the Principal Investigator (PI). The Summary title page identifies the project's title, starting with the acronym: N-GOMEX 2002, a short title (less than 50 characters), and the PI's name and affiliation, complete address, phone, FAX and E-mail information. The requested budget for each fiscal year should be included on the Summary title page. Multi-investigator proposals must include the names and affiliations of each investigator on the title page. Multi-institution proposals must also identify the lead investigator from each institution and the requested funding for each fiscal year for each institution on the title page, but no signatures are required on the title page from the additional institutions. Lead investigator and separate budget information is not requested on the title page for institutions that are proposed to receive funds through a subcontract to the lead institution; however, the COP Summary Proposal Budget Form and accompanying budget justification must be submitted for each subcontractor. For further details on budget information, please see Section (7) Budget of this Part.

(3) One-page abstract/project summary. The Project Summary (Abstract) Form, which is to be submitted at time of application, shall include an introduction of the problem, rationale, scientific objectives and/or hypotheses to be tested, and a brief summary of work to be completed. The prescribed CSCOR/COP format for the Project Summary Form can be found on the CSCOR/COP Internet site under the Grants Information section, Part D.

The summary should appear on a separate page, headed by the proposal title, institution(s), investigator(s), total proposed cost and budget period. It should be written in the third person. The summary is used to help compare proposals quickly and allows the respondents to summarize these key points in their own words.

(4) Statement of work/project description. The proposed project must be completely described, including identification of the problem, scientific objectives, proposed methodology, and relevance to the program goals and objectives. The project description section (including relevant results from prior support) should not exceed 15 pages. Page limits are inclusive of figures and other visual materials, but exclusive of references and milestone chart.

This section should clearly identify project management with a description of the functions of each PI within a team. It should provide a full scientific justification for the research. Do not simply reiterate justifications presented in this document. It should also include:

(a) The objective for the period of proposed work and its expected significance;

(b) The relation to the present state of knowledge in the field and the relation to previous work and work in progress by the proposing principal investigator(s);

(c) A discussion of how the proposed project lends value to the program goal;

(d) Potential coordination with other investigators.

(5) References cited. Reference information is required. Each reference must include the names of all authors in the same sequence in which they appear in the publications, the article title, volume number, page numbers and year of publications. While there is no established page limitation, this section should include bibliographic citations only and should not be used to provide parenthetical information outside the 15-page project description.

(6) Milestone chart. Provide time lines of major tasks covering the duration of the proposed project.

(7) Budget. At time of proposal submission, all applicants are required to submit a COP Summary Proposal Budget Form for each fiscal year increment. Multi-institution proposals must include a COP Summary Proposal Budget Form for each institution, and multi-investigator proposals using a lead investigator with a subcontract's approach must submit a COP Summary Proposal Budget Form for each subcontractor.

Each subcontract or subgrant should be listed as a separate item. Describe products/services to be obtained and indicate the applicability or necessity of each to the project. Provide separate budgets for each subgrant or contract regardless of the dollar value and indicate the basis for the cost estimates. List all subgrant or contract costs under line item number 5 - Subcontracts on the COP Summary Proposal Budget Form.

The use of this budget form will provide for a detailed annual budget and for the level of detail required by the CSCOR/COP program staff to evaluate the effort to be invested by investigators and staff on a specific project. The COP budget form is compatible with forms in use by other agencies that participate in joint projects with CSCOR/COP and can be found on the CSCOR/COP home page under the COP Grants Information section, Part D.

All applications must include a budget narrative and a justification to support all proposed budget categories. The SF-424A, Budget Information (Non-Construction) Form, will be requested only from those applicants subsequently recommended for award.

Ship time needs should be clearly identified in the proposed budget. The investigator is responsible for requesting ship time and for meeting all requirements to ensure the availability of requested ship time. Copies of relevant ship time request forms should be included with the proposal. For example, the UNOLS Ship Time Request Form is available at the website cited earlier in this document under the section “Electronic Access.”

(8) Biographical sketch. All principal and co-investigators must provide summaries of up to 2 pages that include the following:

(a) A listing of professional and academic essentials and mailing address;

(b) A list of up to five publications most closely related to the proposed project and five other significant publications. Additional lists of publications, lectures, and the rest should not be included;

(c) A list of all persons (including their organizational affiliation) in alphabetical order, with whom the investigator has collaborated on a project or publication within the last 48 months, including collaborators on the proposal and persons listed in the publications. If no collaborators exist, this should be so indicated;

(d) A list of persons (including their organizational affiliation) with whom the individual has had an association like thesis advisor or postdoctoral scholar sponsor;

(e) A list of the names and institutions of the individual's own graduate and postgraduate advisors.

The material presented in (c, d, and e) is used to assist in identifying potential conflicts or bias in the selection of reviewers.

(9) Current and pending support. Describe all current and pending financial/funding support for all principal and co-investigators, including subsequent funding in the case of continuing grants. All current support from whatever source (e.g., Federal, state or local government agencies, private foundations, industrial or other commercial organizations) must be listed. The proposed project and all other projects or activities requiring a portion of time of the principal investigator or co-investigators should be included, even if they receive no salary support from the projects. The total award amount for the entire award period covered (including indirect costs) should be shown as well as the number of person-months per year to be devoted to the project, regardless of source of support.

(10) Proposal format and assembly. The original proposal should be clamped in the upper left-hand corner, but left individually unbound. The 15 additional copies can be stapled in the upper left-hand corner or bound on the left edge. The page margin must be 1 inch (2.5 cm) at the top, bottom, left and right, and the typeface standard 12-point size must be clear and easily legible. Proposals should be single spaced.

Part II: Further Supplementary Information

(1) Program authorities. For a list of all program authorities for the Center for Sponsored Coastal Ocean Research/Coastal Ocean Program, see the General Grant Administration Terms and Conditions of the Coastal Ocean Program published in the Federal Register (66 FR 63019, December 4, 2001) and at the CSCOR/COP home page. Specific Authority cited for this announcement is 33 U.S.C. 1442.

(2) Catalog of Federal Domestic Assistance (CFDA) Number. The CFDA number for the Coastal Ocean Program is 11.478.

(3) Program description. For complete CSCOR/COP program descriptions, see the General Grant Administration Terms and Conditions of the Coastal Ocean Program published in the Federal Register (66 FR 63019, December 4, 2001).

(4) Funding availability. Funding is contingent upon availability of Federal appropriations. Approximately $3,000,000 will be available for supporting studies proposed by submissions to this announcement during the first year, and approximately $2,000,000 during the second and third years. It is estimated that seven to fifteen awards will be made as a result of this announcement.

If an application is selected for funding, NOAA has no obligation to provide any additional prospective funding in connection with that award in subsequent years. Continuation of an award to increase funding or to extend the period of performance is based on satisfactory performance and is at the total discretion of the funding agency.

Publication of this notice does not obligate any agency to any specific award or to obligate any part of the entire amount of funds available. Recipients and subrecipients are subject to all Federal laws and agency policies, regulations and procedures applicable to Federal financial assistance awards.

(5) Matching requirements. None.

(6) Type of funding instrument. Project Grants for non-Federal applicants, interagency transfer agreements, or any other appropriate mechanisms other than project grants or cooperative agreements for Federal applicants.

(7) Eligibility criteria: For complete eligibility criteria for the CSCOR/COP, see the COP General Grant Administration Terms and Conditions annual document in the Federal Register (66 FR 63019 December 4, 2001) and the CSCOR/COP home page. Eligible applicants are institutions of higher education, not-for-profit institutions, state, local and Indian tribal governments, and Federal agencies. CSCOR/COP will accept proposals that include foreign researchers as collaborators with a researcher who is affiliated with a U.S. academic institution, Federal agency, or with any other non-profit organization.

Applications from non-Federal and Federal applicants will be competed against each other. Proposals selected for funding from non-Federal applicants will be funded through a project grant or cooperative agreement under the terms of this notice. Proposals selected for funding from NOAA employees shall be effected by an intra-agency fund transfer. Proposals selected for funding from employees of a non-NOAA Federal agency will be funded through an inter-agency transfer.

Note: Before non-NOAA Federal applicants may be funded, they must demonstrate that they have legal authority to receive funds from another Federal agency in excess of their appropriation. Because this announcement is not proposing to procure goods or services from applicants, the Economy Act (31 U.S.C. 1535) is not an appropriate legal basis.

(8) Award period. Full Proposals can cover a project period from 1 to 3 years. Multi-year project period funding may be funded incrementally on an annual basis, but, once awarded, multi-year projects will not compete for funding in subsequent years. Each annual award shall require an Implementation Plan and statement of work that can be easily divided into annual increments of meaningful work representing solid accomplishments in the event that prospective funding is not made available, or is discontinued.

(9) Indirect costs. Regardless of any approved indirect cost rate applicable to the award, the maximum dollar amount of allocable indirect costs for which DOC will reimburse the recipient shall be the lesser of (a) the line item amount for the Federal share of indirect costs contained in the approved budget of the award or (b) the Federal share of the total allocable indirect costs of the award based on the indirect cost rate approved by a cognizant or oversight Federal agency and current at the time the cost was incurred, provided the rate is approved on or before the award end date.

(10) Application forms and kit. For complete information on application forms for the CSCOR/COP, see the COP General Grant Administration Terms and Conditions annual Document in the Federal Register (66 FR 63019, December 4, 2001) at the CSCOR/COP home page, and the information given under Required Elements,(6) Budget of this Part.

(11) Project funding priorities. For description of project funding priorities, see the COP General Grant Administration Terms and Conditions annual notification in the Federal Register (66 FR 63019, December 4, 2001) and at the CSCOR/COP home page.

(l2) Evaluation criteria. For complete information on evaluation criteria, see the COP General Grant Administration Terms and Conditions annual Document in the Federal Register (66 FR 63019, December 4, 2001) and at the CSCOR/COP home page.

(13) Selection procedures. For complete information on selection procedures, see the COP General Grant Administration Terms and Conditions annual Document in the Federal Register (66 FR 63019, December 4, 2001) and at the CSCOR/COP home page. All proposals received under this specific Document will be evaluated and ranked individually in accordance with the assigned weights of the above evaluation criteria by independent peer mail review and/or panel review.

(14) Other requirements. (a) For a complete description of other requirements, see the COP General Grant Administration Terms and Conditions annual Document in the Federal Register (66 FR 63019, December 4, 2001) and at the CSCOR/COP home page. NOAA has specific requirements that environmental data be submitted to the National Oceanographic Data Center (see section 16 below).

(b) The Department of Commerce Pre-Award Notification Requirements for Grants and Cooperative Agreements contained in the Federal Register (66 FR 49917, October 1, 2001) are applicable to this solicitation. However, please note that the Department of Commerce will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case has been finally resolved, the Department will provide further information on implementation of Executive Order 13202.

(c) Please note that NOAA is developing a policy on internal overhead charges; NOAA scientists considering submission of proposals should contact the appropriate CSCOR/COP Program Manager for the latest information.

(15) Intergovernmental review. Applications under this program are not subject to Executive Order l2372, “Intergovernmental Review of Federal Programs.” It has been determined that this notice is not significant for purposes of Executive Order 12866. Pursuant to 5 U.S.C. 553(a)(2), an opportunity for public notice and comment is not required for this notice relating to grants, benefits, and contracts. Because this notice is exempt from the notice and comment provisions of the Administrative Procedure Act, a Regulatory Flexibility Analysis is not required, and none has been prepared. It has been determined that this notice does not contain policies with Federalism implications as that term is defined in Executive Order 13132.

(16) Data archiving. Any data collected in projects supported by CSCOR/COP must be delivered to a National Data Center (NDC), such as the National Oceanographic Data Center (NODC), in a format to be determined by the institution, the NODC, and the Program Officer. It is the responsibility of the institution for the delivery of these data; the DOC will not provide additional support for delivery beyond the award. Additionally, all biological cultures established, molecular probes developed, genetic sequences identified, mathematical models constructed, or other resulting information products established through support provided by CSCOR/COP are encouraged to be made available to the general research community at no or modest handling charge (to be determined by the institution, Program Officer, and DOC).

(17) This notification involves collection-of-information requirements subject to the Paperwork Reduction Act. The use of Standard Forms 424, 424A, 424B, and SF-LLL has been approved by the Office of Management and Budget (OMB) under control numbers 0348-0043, 0348-0044, 0348-0040 and 0348-0046.

The following requirements have been approved by OMB under control number 0648-0384: a Summary Proposal Budget Form (30 minutes per response), a Project Summary Form (30 minutes per response), a standardized format for the Annual Performance Report (5 hours per response), a standardized format for the Final Report (10 hours per response) and the submission of up to 20 copies of proposals (10 minutes per response). The response estimates include the time for reviewing instructions, searching existing data sources, gathering and maintaining the data needed, and completing and reviewing the collection of information. Send comments regarding this burden estimate or any other aspect of this collection of information, including suggestions for reducing this burden, to Leslie.McDonald@noaa.gov. Copies of these forms and formats can be found on the CSCOR/COP home page under Grants Information sections, Parts D and F.

Notwithstanding any other provision of law, no person is required to respond to, nor shall any person be subject to a penalty for failure to comply with a collection of information subject to the requirements of the Paperwork Reduction Act, unless that collection displays a currently valid OMB control number

Dated: May 22, 2002.
Jamison S. Hawkins,
Deputy Assistant Administrator for Ocean Services and Coastal Zone Management.

[FR Doc. 02-14069 Filed 6-4-02; 8:45 am]

BILLING CODE 3510-22-S